DEPARTMENT OF THE INTERIOR

Bureau of Indian Affairs

Notice of Availability of Draft Environmental Impact Statement for the Proposed Transfer From Fee-to-Trust Land of Oneida Indian Nation of New York Land in Oneida and Madison Counties, NY

AGENCY: Bureau of Indian Affairs, Interior.

ACTION: Notice.

SUMMARY: This notice advises the public that the Bureau of Indian Affairs (BIA), with the cooperation of the Oneida Indian Nation of New York (Nation), intends to file a Draft Environmental Impact Statement (DEIS) with the U.S. Environmental Protection Agency for proposed fee-to-trust land transfer located within Oneida and Madison Counties, New York, and that the DEIS is now available for public review. The purpose of the proposed action is to foster the cultural preservation, self-determination, self-sufficiency and economic independence of the Nation through placing tribal properties into a fee trust land base. This notice also announces a public hearing to take public comments on the DEIS.

DATES: Written comments on the DEIS must arrive by January 8, 2007. The public hearing will be held Thursday, December 14, 2006, from 3 p.m. to 10 p.m., or until the last public comment is received. Doors for the hearing will open at 2 p.m.

ADDRESSES: You may mail, hand carry or fax written comments to Mr. Franklin Keel, Regional Director, Eastern Regional Office, Bureau of Indian Affairs, 545 Marriott Drive, Suite 700, Nashville, Tennessee 37214, Fax (615) 564-6701. Please include your name, return address and the caption, “DEIS Comments, Oneida Indian Nation of New York Trust Acquisition Project,” on the first page of your written comments. Electronic submission is not available. The public hearing will be at the Stanley Theater, 259 Genesee Street, Utica, New York.

Copies of the DEIS will be available for viewing at Web site www.oneidanationtrust.net and at the following locations: (1) Oneida Nation Annex Building, 579A Main Street, Oneida, New York 13421 (10 a.m. to 4 p.m. Monday through Friday except holidays); (2) Oneida City Hall, 109 N. Main Street, Downstairs Basement Room, Oneida, New York 13421; and (3) Town of Verona Town Hall, 6600 Germany Road, Back Conference Room, Durhamville, New York 13054.

FOR FURTHER INFORMATION CONTACT: Kurt G. Chandler, (615) 564-6832.

SUPPLEMENTARY INFORMATION: The Nation submitted an application to the U.S. Department of the Interior through the BIA, requesting that the Secretary of the Interior take up to 17,370 acres of fee land in Madison and Oneida Counties, New York, into trust status for the benefit of the Nation. The subject properties are currently owned by the Nation in fee status.

The currently proposed alternatives are: (A) Proposed Action, which is the action proposed by the Nation to take all 17,370 acres into trust; (B) Phased Acquisition of 35,000 Acres; (C) Group 1 and 2 Lands, which include resort, commercial and residential properties (9,903); (D) Group 1 Lands Only, which include resort type properties (3,428 acres); (E) Turning Stone Casino Gaming Floor Only (225 acres); (F) Alternative Trust Land Grouping, which focuses on compact and contiguous properties (11,986 acres); and (G) No Action (0 acres). The alternatives are intended to assist the review of the issues presented, but may not represent the final decision, since a parcel-by-parcel review and determination will be necessary for compliance with factors listed in 25 CFR Part 151. Among other issues, comments on the DEIS should address whether particular properties or groups of properties should be taken out of, or added to, an existing alternative.

Public Comment Availability

Comments, including names and addresses of respondents, will be available for public review at the BIA address shown in the ADDRESSES section, during regular business hours, 8 a.m. to 4:30 p.m., Monday through Friday, except holidays. Individual respondents may request confidentiality. If you wish to withhold your name and/or address from public review or from disclosure under the Freedom of Information Act, you must state this prominently at the beginning of your written comment. Such requests will be honored to the extent allowed by law. We will not, however, consider anonymous comments. All submissions from organizations or businesses, and from individuals identifying themselves as representatives or officials of organizations or businesses, will be made available for public inspection in their entirety.

Authority

This notice is published in accordance with section 1503.1 of the Council on Environmental Quality Regulations (40 CFR parts 1500 through 1508) implementing the procedural requirements of the National Environmental Policy Act of 1969, as amended (42 U.S.C. 4321 et seq.), the Department of the Interior Manual (516 DM 1-6), and is in the exercise of authority delegated to the Principal Deputy Assistant Secretary—Indian Affairs by 209 DM 8.

Dated: November 17, 2006.
Michael D. Olsen,
Principal Deputy Assistant Secretary—Indian Affairs.

[FR Doc. E6-19900 Filed 11-22-06; 8:45 am]

BILLING CODE 4310-W7-P